DEPARTMENT OF ENERGY

Federal Energy Regulatory Commission

[Project No. 12107-003]

Granite County; Notice of Application Ready for Environmental Analysis and Soliciting Comments, Recommendations, Terms and Conditions, and Prescriptions

April 20, 2009.

Take notice that the following hydroelectric application has been filed with the Commission and is available for public inspection.

a. Type of Application: A New License. (Major Project).

b. Project No.: 12107-003.

c. Date Filed: August 8, 2008.

d. Applicant: Granite County.

e. Name of Project: Flint Creek Hydroelectric Project.

f. Location: The proposed project would be located on Flint Creek at the Georgetown Lake Dam, near Philipsburg, in Granite County and Deer Lodge County, Montana. The proposed project would affect about 1266.33 acres of federal lands within the Beaverhead-Deer Lodge National Forest.

g. Filed Pursuant to: Federal Power Act 16 U.S.C. 791(a)-825(r).

h. Applicant Contact: Granite County, Maureen Connor, Chairman, Board of County Commissioners, PO Box 925, Philipsburg, Montana 59858-0925; (406) 859-3817, or Roger Kirk, Agent, PO Box 1136, Bozeman, Montana 59771; (406) 587-5086.

i. FERC Contact: Gaylord Hoisington, (202) 502-6032 or gaylord.hoisington@FERC.gov.

j. Deadline for filing comments, recommendations, terms and conditions, and prescriptions is 60 days from the issuance of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link. For a simpler method of submitting text only comments, click on “Quick Comment.”

k. This application has been accepted, and is ready for environmental analysis at this time.

l. The proposed Flint Creek project consists of: (1) An existing 2,850 acre reservoir with 31,034 acre-feet of storage at elevation 6,378 feet above mean sea level; (2) an existing 330-foot-long and 44-foot-high earth with masonry-core dam; (3) a new 36-inch-diameter by 6,282-foot-long polymer and/or steel pipeline; (4) a surge tank; (5) a new 36-inch-diameter by approximately 1,463-foot-long buried penstock connecting the surge tank to the new powerhouse; (6) a new approximately 30-foot by 40-foot powerhouse containing one Pelton turbine-generator unit rated at 2 megawatts; (7) a new approximately 95-foot-long buried tailrace; (8) a new approximately 10-foot by 10-foot fenced substation located next to the powerhouse; and (9) all appurtenant structures. The average annual generation of the project is approximately 10 gigawatthours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. Public notice of the filing of the initial development application, which has already been given, established the due date for filing competing applications or notices of intent. Under the Commission's regulations, any competing development application must be filed in response to and in compliance with public notices of the initial development application. No competing applications or notices of intent may be filed in response to this notice.

o. A license applicant must file no later than 60 days following the date of issuance of this notice: (1) A copy of the water quality certification; (2) a copy of the request for certification, including proof of the date on which the certifying agency received the request; or (3) evidence of waiver of water quality certification.

Kimberly D. Bose,
Secretary.

[FR Doc. E9-9487 Filed 4-24-09; 8:45 am]

BILLING CODE 6717-01-P